DEPARTMENT OF LABOR

Office of the Secretary

Submission for OMB Review: Comment Request

January 11, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or email: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Records of Tests and Examinations of Personnel Hoisting Equipment.

OMB Number: 1219-0034.

Form Number: None.

Frequency: On occasion; Semi-annually; Daily; Bi-Weekly and Bi-monthly.

Type of Response: Recordkeeping.

Affected Public: Business or other for-profit.

Number of Respondents: 249 (58 Metal/Non-metal Mines and 191 Coal Mines).

Information collection requirement | Annual responses | Average response time (hours) | Annual burden hours
Metal/Non-metal Mines:
Daily Examinations | 15,080 | 0.33 | 4,976
Bi-weekly Examinations | 1,508 | 0.75 | 1,131
Daily Recordkeeping | 15,080 | 0.08 | 1,206
Initial Examinations | 18 | 1.00 | 18
Initial & Semi Annual Measurement | 116 | 1.00 | 116
Recordkeeping | 116 | 0.15 | 17
Coal Mines:
Daily Examinations | 148,980 | 0.33 | 49,163
Bi-weekly Examinations | 9,932 | 0.33 | 3,278
Daily Recordkeeping | 49,660 | 0.08 | 3,973
Biweekly Recordkeeping | 4,966 | 0.08 | 397
Initial Wire Rope Measurement | 191 | 4.00 | 763
Semi Annual Wire Rope Measurement | 688 | 1.00 | 688
Initial Recordkeeping | 191 | 0.08 | 15
Semi Annual Recordkeeping | 688 | 0.08 | 55
Bi-monthly Tests of Safety Catches | 2,292 | 0.75 | 1,719
Recordkeeping | 2,292 | 0.08 | 183
Total | 251,797 |  | 67,698

Total Annualized capital/startup costs: $0.

Total Annual Costs (operating/maintaining systems or purchasing services): $298,800.

Description: The information collection requirements in 30 CFR 56.19022, 56.19023, 56.19121, 57.19022, 57.19023, 57.19121, 75.1400-2, 75.1400-4, 75.1432, 75.1433, 77.1404, 77.1432, 77.1433, 77.1906 are used by industry management and maintenance personnel to project the expected safe service performance of hoist and shaft equipment; to indicate when maintenance and specific tests need to be performed; and to ensure that wire rope attached to the personnel conveyance is replaced in time to maintain the necessary safety for miners. MSHA inspectors use the records to ensure that inspections are conducted, unsafe conditions identified early and corrected. The consequence of hoist or shaft equipment malfunctions or wire rope failures can result in serious injuries and fatalities. It is essential that MSHA inspectors be able to verify that mine operators are properly inspecting their hoist and shaft equipment and maintaining it in safe condition.

Agency: Mine Safety and Health Administration.

Type of Review: Extension of currently approved collection.

Title: Respirator Program Records.

OMB Number: 1219-0048.

Form Number: None.

Frequency: On occasion, Monthly, and Annually.

Type of Response: Recordkeeping and Reporting.

Affected Public: Business or other for-profit.

Number of Respondents: 310.

Information collection requirement | Annual responses | Average response time (hours) | Annual burden hours
Develop respirator program | 310 | 5.00 | 1,550
Respirator fit testing | 1,500 | 0.25 | 375
Inspection records | 3,720 | 0.08 | 310
Total | 5,530 |  | 2,235

Total Annualized capital/startup costs: $0.

Total Annual Costs (operating/maintaining systems or purchasing services): $156,350.

Description: Title 30 CFR 56.5005 and 57.5005 incorporate by reference requirements of the American National Standards Institute (ANSI Z88.2 1969). These incorporated requirements mandate that miners who must wear respirators be fit-tested to the respirators that they will use. Certain records are also required to be kept in connection with respirators, including: written standard operating procedures governing the selection and use of respirators; records of the date of issuance of the respirator; and fit-test results.

Agency: Mine Safety and Health Administration.

Type of Review: Extension of currently approved collection.

Title: Hoist Operators' Physical Fitness.

OMB Number: 1219-0049.

Form Number: None.

Frequency: Annually.

Type of Response: Recordkeeping.

Affected Public: Business or other for-profit.

Number of Respondents: 58.

Annual Responses: 290.

Average Response Time: 2 minutes.

Annual Burden Hours: 10.

Total Annualized capital/startup costs: $0.

Total Annual Costs (operating/maintaining systems or purchasing services): $89,320.

Description: Title 30 CFR 56.19057 and 57.19057 require the annual examination and certification of hoist operators' fitness by a qualified, licensed physician. The safety of all Metal and Nonmetal miners riding hoist conveyances is largely dependent upon the attentiveness and physical capabilities of the hoist operator. The information is used by mine operators and MSHA enforcement personnel to determine that persons operating hoisting equipment, are physically able to safely perform their functions.

Agency: Mine Safety and Health Administration.

Type of Review: Extension of currently approved collection.

Title: Rock Burst Control Plan (Pertains to Underground Metal/Nonmetal Mines—30 CFR 57.3461).

OMB Number: 1219-0097.

Form Number: None.

Frequency: On occasion.

Type of Response: Recordkeeping.

Affected Public: Business or other for-profit.

Number of Respondents: 2.

Annual Responses: 2.

Average Response Time: 12 hours.

Annual Burden Hours: 24.

Total Annualized capital/startup costs: $0.

Total Annual Costs (operating/maintaining systems or purchasing services): $0.

Description: Title 30 CFR 57.3461 requires operators of underground metal and nonmetal mines to develop a rock burst control plan within 90 days after a rock burst has been experienced. Plans include mining and operating procedures designed to reduce the occurrence of rock bursts; monitoring procedures where detection methods are used; and other measures to minimize exposure of persons to areas which are prone to rock bursts. Plans are also required to be updated as conditions warrant and are to be made available to MSHA inspectors and to mine employees.

Ira L. Mills,
Departmental Clearance Officer.

[FR Doc. 05-1225 Filed 1-21-05; 8:45 am]

BILLING CODE 4510-43-P